DEPARTMENT OF COMMERCE

National Oceanic and Atmospheric Administration

50 CFR Part 648

[Docket No. 200227-0068]

RTID 0648-XX035

Fisheries of the Northeastern United States; Atlantic Spiny Dogfish Fishery; 2020 Spiny Dogfish Specifications

AGENCY: National Marine Fisheries Service (NMFS), National Oceanic and Atmospheric Administration (NOAA), Commerce.

ACTION: Final rule.

SUMMARY: We are implementing specifications for the 2020 spiny dogfish fishery, including an annual catch limit and commercial quota. This action is necessary to ensure allowable harvest levels to prevent overfishing while allowing harvest of optimum yield, consistent with the Magnuson-Stevens Fishery Conservation and Management Act. This action is intended to establish 2020 specifications, consistent with the Spiny Dogfish Fishery Management Plan and previously announced multi-year specifications.

DATES: The final specifications for the 2020 Atlantic spiny dogfish fishery are effective May 1, 2020, through April 30, 2021.

ADDRESSES: Copies of these specifications, including the original Environmental Assessment, Regulatory Flexibility Act Analyses, and other supporting documents for the action, are available upon request from Dr. Christopher M. Moore, Executive Director, Mid-Atlantic Fishery Management Council, Suite 201, 800 N State Street, Dover, DE 19901. These documents are also accessible via the internet at http://www.mafmc.org/dogfish.

FOR FURTHER INFORMATION CONTACT: Cynthia Ferrio, Fishery Management Specialist, (978) 281-9180.

SUPPLEMENTARY INFORMATION: The New England and Mid-Atlantic Fishery Management Councils jointly manage the Atlantic spiny dogfish fishery in Federal waters under the Spiny Dogfish Fishery Management Plan (FMP), with the Mid-Atlantic Council serving as the administrative lead. The Atlantic States Marine Fisheries Commission manages the fishery in state waters from Maine to North Carolina through an interstate fishery management plan. The FMP requires the specification of an annual catch limit (ACL), annual catch target (ACT), and the total allowable landings (TAL) for up to a 5-year period; however, the Councils often choose to only set specifications up to 3 years at a time. This action implements specifications for the 2020 spiny dogfish fishery that begins on May 1, 2020.

On May 15, 2019, we approved specifications for the 2019 fishing year (84 FR 21723) and projected specifications for fishing years 2020 and 2021. These were based on recent fishery data from the 2018 stock assessment update. The approved measures substantially reduced the coastwide commercial quota in 2019 to prevent overfishing, but included projections for increased quota in 2020 and 2021. The final 2020 spiny dogfish specifications, which are summarized in Table 1, represent a 13-percent increase in commercial quota from fishing year 2019. All other management measures, including the 6,000-lb (2,722-kg) Federal trip limit, remain unchanged.

Table 1—Spiny Dogfish Specifications for Fishing Year 2020
| Metric tons
Acceptable Biological Catch | 14,126
ACL = ACT | 14,077
TAL | 10,602
Commercial Quota | 10,521

We have reviewed available 2019 fishery information, and we do not expect that the 2019 annual catch limit will be exceeded. Further, there is no new biological information that would require altering the projected 2020 specifications. Neither the Council nor the Commission recommended any changes to the previously projected multi-year specifications. Based on this, we are implementing the 2020 specifications as projected and outlined in the 2019-2021 spiny dogfish specifications final rule (84 FR 21723, May 15, 2019). These final 2020 specifications will be effective from May 1, 2020, until April 30, 2021. We will finalize the 2021 fishing year specifications prior to May 1, 2021, by publishing another rule following a similar review.

Classification

Pursuant to section 304(b)(1)(A) of the Magnuson-Stevens Act, the NMFS Assistant Administrator has determined that this final rule is consistent with the Atlantic Spiny Dogfish FMP, the Magnuson-Stevens Fishery Conservation and Management Act, and other applicable law.

This rule is exempt from review under Executive Order 12866 because this action contains no implementing regulations. This rule is not an Executive Order 13771 regulatory action because this rule is not significant under Executive Order 12866.

This final rule does not duplicate, conflict, or overlap with any existing Federal rules.

Pursuant to 5 U.S.C. 553(b)(B), we find good cause to waive prior public notice and opportunity for public comment on the final 2020 spiny dogfish specifications, because allowing time for notice and comment is unnecessary. The proposed rule for the 2019 specifications and the projected 2020 and 2021 specifications (84 FR 11923, March 29, 2019) provided the public with the opportunity to comment on these 2020 specifications. While comments received on the multi-year (2019-2021) specifications were mixed on the general issue of whether quotas should be liberalized or made more restrictive, no substantive comments were received on the projected 2020 specifications. Furthermore, this final rule contains no changes from the projected 2020 specifications that were included in both the March 29, 2019, proposed rule (84 FR 11923), and the May 15, 2019, final rule (84 FR 21723). Additionally, the public and industry participants expect this action, because we previously alerted the public (in the March 29, 2019, proposed rule, and the May 15, 2019, final rule) that we would conduct this interim-year review of the multi-year specifications after reviewing the latest fisheries data, with the intent of announcing the final 2020 commercial quota prior to the May 1 start of the fishing year. Thus, the process for issuing the proposed and final rules containing the 2019 specifications and the projected 2020 and 2021 specifications provided a full opportunity for the public to comment on this action. As a result, there is no need to reopen the comment period before issuing this final rule.

A final regulatory flexibility analysis (FRFA) was prepared for this action pursuant to the Regulatory Flexibility Act (RFA) (5 U.S.C. 604(a)), and was included in the May 15, 2019, final rule on the 2019-2021 spiny dogfish specifications. That FRFA incorporated the initial regulatory flexibility analysis (IRFA), and a summary of analyses completed to support the action. Because this action makes no changes to what was originally projected in those proposed and final rules for fishing year 2020 specifications, no changes need to be made to the FRFA in the May 15, 2019, final rule, and no additional analyses are necessary. Furthermore, because advance notice and the opportunity for public comment are not required for this action under the Administrative Procedure Act (as discussed above), or any other law, the analytical requirements of the RFA do not apply to this rule. For all of these reasons, no new regulatory flexibility analysis is required, and none has been prepared.

This action does not contain a collection of information requirement for the purposes of the Paperwork Reduction Act.

Authority: 16 U.S.C. 1801 et seq.

Dated: February 28, 2020.
Samuel D. Rauch III,
Deputy Assistant Administrator for Regulatory Programs, National Marine Fisheries Service.

[FR Doc. 2020-04412 Filed 3-5-20; 8:45 am]

BILLING CODE 3510-22-P